DEPARTMENT OF HEALTH AND HUMAN SERVICES

Administration for Children and Families

Submission for Office of Management and Budget (OMB) Review; 2024 National Survey of Early Care and Education Longitudinal Follow-ups (OMB #: 0970-0391)

AGENCY: Office of Planning, Research, and Evaluation, Administration for Children and Families, Department of Health and Human Services.

ACTION: Request for public comments.

SUMMARY: The Administration for Children and Families (ACF), U.S. Department of Health and Human Services (HHS), is proposing a data collection activity to be conducted January 2025 through December 2025 as a follow-up of the 2024 National Survey of Early Care and Education (NSECE). The objectives of the 2024 NSECE Longitudinal Follow-ups are to build on the design and implementation of the 2024 NSECE to collect urgently needed information on the following two topics relevant to early care and education (ECE) policy: (1) how households learn about and make use of financial assistance in seeking and selecting ECE, with additional focus on paid individual care arrangements; and (2) patterns of retention and attrition among individuals in the center-based ECE workforce.

DATES: Comments due within 30 days of publication. OMB must make a decision about the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function. You can also obtain copies of the proposed collection of information by emailing OPREinfocollection@acf.hhs.gov. Identify all requests by the title of the information collection.

SUPPLEMENTARY INFORMATION:

Description: The 2024 NSECE Longitudinal Follow-ups will consist of two nationally representative surveys drawing from 2024 NSECE respondents:

1. a survey of households (1) with incomes under 300 percent of the federal poverty level (FPL) and/or (2) who had used paid care by an individual in 2024 (2024 NSECE Household Follow-up)

2. a survey of individuals who were employed in 2024 in center-based ECE programs working directly with children in classrooms serving children age 5 years and under, not yet in kindergarten (2024 NSECE Workforce Follow-up).

Participants will be drawn from respondents to the 2024 NSECE Household and Workforce surveys.

The 2024 NSECE Longitudinal Follow-up data collection efforts will provide urgently needed information that will expand the potential of the 2024 NSECE data to describe: (1) households' search for and use of financial assistance for ECE (including assistance for paid individual care arrangements); and (2) employment experiences of individuals who have recently worked in center-based ECE classrooms.

The household follow-up in early 2025 will re-interview households participating in the 2024 NSECE who (1) report using paid individual ECE or (2) report incomes below 300 percent of the FPL. The workforce follow-up in late 2025 will re-interview individuals who participated in the 2024 NSECE workforce survey (i.e., served as center-based classroom-assigned instructional staff between January and November 2024). Both follow-up surveys are designed to collect in-depth information that was not feasible to collect in the 2024 NSECE and which can be uniquely collected through re-interviews of selected 2024 NSECE participants. The household follow-up will include information about households' awareness of and experience with publicly funded ECE programs, how households selected ECE arrangements for Fall 2024, and who provided paid individual care to the households' children in 2024. The workforce follow-up will include information about the experiences of ECE instructional staff over time, where workers who leave ECE employers or the ECE sector go and why they leave, and workers' experiences in various ECE settings throughout their ECE careers. Accurate data on families with young children and the experiences of ECE workers are essential to assess the current landscape of ECE, and to provide insights to advance ECE policy and initiatives. The household follow-up will be fielded using multi-mode survey methodologies in early 2025, and the workforce follow-up will be fielded using multi-mode survey methodologies in the last half of 2025. Both follow-ups will enhance the value of the 2024 NSECE by expanding the potential utility of those data to describe household and worker experiences over time and to address additional information needs.

Respondents: 1. Households participating in the 2024 NSECE and reported either a. a paid individual ECE arrangement in 2024, or b. income under the 300 percent Federal poverty level in 2024. 2. Individuals who participated in the 2024 NSECE survey of center-based classroom-assigned instructional staff (workforce).

Annual Burden Estimates

2024 NSECE Longitudinal Follow-ups (New Request Under This OMB Number)
Instrument | Number of respondents (total over request period) | Number of responses per respondent (total over request period) | Average burden per response (in hours) | Total/annual burden (in hours)
2024 NSECE Household Follow-up Questionnaire | 3,750 | 1 | .36 | 1,350
2024 NSECE Workforce Follow-up Questionnaire (Classroom Staff) | 5,550 | 1 | .33 | 1,832
2024 NSECE Household Longitudinal Follow-up Quality Assurance Questionnaire | 38 | 1 | .05 | 1.9
2024 NSECE Workforce Longitudinal Follow-up Quality Assurance Questionnaire | 56 | 1 | .05 | 2.8

Estimated Total Annual Burden Hours: 3,187.

Currently Approved and Ongoing Under This OMB Number
Instrument | Number of respondents (total over request period) | Number of responses per respondent (total over request period) | Average burden per response (in hours) | Total/annual burden (in hours)
2024 NSECE Household Screener | 17,187 | 1 | .1 | 1,719
2024 NSECE Household Questionnaire | 4,231 | 1 | 1 | 4,231
2024 NSECE Home-based Provider Screener (listed home-based providers) | 264 | 1 | .03 | 8
2024 NSECE Home-based Provider Screener and Questionnaire (listed home-based providers) | 946 | 1 | .67 | 634
2024 NSECE Home-based Provider Screener and Questionnaire (unlisted home-based providers) | 175 | 1 | .33 | 58
2024 NSECE Center-based Provider Screener | 4,401 | 1 | .1 | 440
2024 NSECE Center-based Provider Screener and Questionnaire | 3,602 | 1 | .75 | 2,702
2024 NSECE Workforce (Classroom Staff) Questionnaire | 3,794 | 1 | .33 | 1,252

Estimated Total Annual Burden Hours: 11,044.

Authority: Child Care and Development Block Grant Act of 1990, as amended by the CCDBG Act of 2014 (Pub. L. 113-186). Social Security Act, section 418 as extended by the Continuing Appropriations Act of 2017 and the TANF Extension Act of 2019. Section 3507 of the Paperwork Reduction Act of 1995, 44 U.S.C. chapter 35.

Mary C. Jones,
ACF/OPRE Certifying Officer.

[FR Doc. 2024-21210 Filed 9-17-24; 8:45 am]

BILLING CODE 4184-23-P